DEPARTMENT OF AGRICULTURE

Forest Service

Information Collection; Community Forest and Open Space Program

AGENCY: Forest Service, USDA.

ACTION: Notice; request for comment.

SUMMARY: In accordance with the Paperwork Reduction Act of 1995, the Forest Service (FS) is seeking comments from all interested individuals and organizations on the extension with no revision of a currently approved information collection; Community Forest and Open Space Program.

DATES: Comments must be received in writing on or before August 20, 2018 to be assured of consideration. Comments received after that date will be considered to the extent practicable.

ADDRESSES: Comments concerning this notice should be addressed to Maya Solomon, USDA Forest Service, Cooperative Forestry Staff, 1400 Independence Avenue SW, Mailstop 1123, Washington, DC 20250. Comments may also be submitted electronically via email to communityforest@fs.fed.us. If comments are sent electronically, do not duplicate via regular mail.

The public may inspect comments received at the USDA Forest Service, Yates Building, 1400 Independence Avenue, Washington, DC, during normal business hours. Visitors are encouraged to call ahead to facilitate entry into the building.

FOR FURTHER INFORMATION CONTACT: Scott Stewart, Community Forest and Open Space Conservation Program Manager, by phone at 202-205-1618. Individuals who use telecommunication devices for the deaf (TDD) may call the Federal Information Relay Service (FIRS) at 1-800-877-8339 twenty-four hours a day, every day of the year, including holidays.

SUPPLEMENTARY INFORMATION:

Title: Community Forest and Open Space Program.

OMB Number: 0596-0227.

Expiration Date of Approval: October 31, 2018.

Type of Request: Renewal of a currently approved collection.

Abstract: The Forest Service is authorized to implement the Community Forest and Open Space Program (CFP) under Section 8003 of the Food, Conservation, and Energy Act of 2008 (Pub. L. 110-246; 122 Stat. 2043; 7 U.S.C. 8701), which amends the Cooperative Forestry Assistance Act of 1978 (16 U.S.C. 2103d). The purpose of the Community Forest Program is to achieve community benefits through grants to local governments, Tribal Governments, and qualified nonprofit organizations to establish community forests by acquiring and protecting private forestlands. The information requirements will be used to help the Forest Service in the following areas: (1) To determine that the applicant is eligible to receive funds under the program, (2) to determine if the proposal meets the qualifications in the law and regulations, (3) to evaluate and rank the proposals based on a standard, consistent information; and (4) to determine if the projects costs are allowable and sufficient cost share is provided.

Local governmental entities, Tribal Governments, and qualified nonprofit organizations are the only entities eligible for the program, and therefore are the only organizations from which information will be collected.

The information collection currently required for a request for proposals and grant application is approved and has been assigned the OMB Control No. 0596-0227.

Estimated Annual Number of Respondents: 50.

Estimated Burden per Response: 40 hours.

Estimated Number of Responses per Respondent: 1.

Estimated Number of Total Annual Responses: 50.

Estimated Total Annual Burden on Respondents: 2,000 hours.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: May 23, 2018.
Patti Hirami,
Acting Deputy Chief.

[FR Doc. 2018-13261 Filed 6-19-18; 8:45 am]

BILLING CODE 3411-15-P